DEPARTMENT OF TRANSPORTATION

Federal Aviation Administration

Twelfth RTCA SC-233 Addressing Human Factors/Pilot Interface Issues for Avionics Plenary

AGENCY: Federal Aviation Administration, U.S. Department of Transportation.

ACTION: Twelfth RTCA SC-233 Addressing Human Factors/Pilot Interface Issues for Avionics Plenary.

SUMMARY: The FAA is issuing this notice to advise the public of a meeting of Twelfth RTCA SC-233 Addressing Human Factors/Pilot Interface Issues for Avionics Plenary.

DATES: The meeting will be held October 23, 2017 10:00 a.m.-11:00 a.m.

ADDRESSES: The meeting will be held at: RTCA Headquarters, 1150 18th Street NW., Suite 910, Washington, DC 20036 to be hosted as a virtual meeting.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twelfth RTCA SC-233 Addressing Human Factors/Pilot Interface Issues for Avionics Plenary. The agenda will include the following:

October 23, 2017 10:00 a.m.-11:00 a.m.

1. Introduction, DFO Statement, Opening Remarks

2. September 2017 Minutes Approval

3. Consider a Motion To Approve Submitting the Document to the Program Management Committee

4. Other Business

5. Action Items

6. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 4, 2017.
Mohannad Dawoud,
Management & Program Analyst, Partnership Contracts Branch, ANG-A17, NextGen, Procurement Services Division, Federal Aviation Administration.

[FR Doc. 2017-21714 Filed 10-6-17; 8:45 am]

BILLING CODE 4910-13-P